DEPARTMENT OF HOMELAND SECURITY

Coast Guard

33 CFR Part 165

[Docket No. USCG-2022-0472]

Safety Zone; Annual Fireworks Displays Within the Captain of the Port Zone, Columbia River

AGENCY: Coast Guard, DHS.

ACTION: Notification of enforcement of regulation.

SUMMARY: The Coast Guard will enforce safety zone regulations at various locations in the Sector Columbia River Captain of the Port Zone from July 4, 2022 to July 23, 2022 to provide for the safety of life on navigable waters during these fireworks displays. Our regulation for fireworks displays within the Thirteenth Coast Guard District identifies the regulated areas and the approximate dates for these events. The specific dates and times are identified in this notice. During the enforcement periods, the operator of any vessel in the regulated area must comply with directions from the Patrol Commander or any Official Patrol displaying a Coast Guard ensign.

DATES: The regulations in 33 CFR 165.1315, Table 1, will be enforced for the safety zones identified in the SUPPLEMENTARY INFORMATION section below for the dates and times specified.

FOR FURTHER INFORMATION CONTACT: If you have questions about this notification of enforcement, call or email LT Sean Murphy, Waterways Management Division, Marine Safety Unit Portland, Coast Guard; telephone 503-240-9319, email D13-SMB-MSUPortlandWWM@uscg.mil.

SUPPLEMENTARY INFORMATION: The Coast Guard will enforce safety zones in 33 CFR 165.1315, Table 1, for the events specified below, during the designated enforcement periods, and within a 450 yard radius of the launch site and the listed locations. This action is being taken to provide for the safety of life on navigable waterways during these events.

Our regulation for fireworks displays within the Thirteenth Coast Guard District, 33 CFR 165.1315, Table 1, designates the regulated areas and identifies the approximate dates for these events. The specific dates and times are specified below. During the enforcement periods, as reflected in § 165.1315, if you are the operator of a vessel in the regulated area you must comply with directions from the Patrol Commander or any Official Patrol displaying a Coast Guard ensign. These safety zones are subject to enforcement at least 1 hour prior to the start and 1 hour after the conclusion of the events.

Table 1—Dates and Durations of Enforcement for 33 CFR 165.1315 Safety Zones at Various Locations Within the Sector Columbia River Captain of the Port Zone in 2022
Event name | Event location | Date of event | Latitude | Longitude
Oaks Park Association 4th of July | Portland, OR | July 4, 2022 9:30 p.m. to 11 p.m | 45°28′22″ N | 122°39′59″ W
Port of Cascade Locks 4th of July | Cascade Locks, OR | July 4, 2022 9:30 p.m. to 11 p.m | 45°40′15″ N | 121°53′43″ W
Clatskanie Heritage Days Fireworks | Clatskanie, OR | July 4, 2022 9:30 p.m. to 11 p.m | 46°06′17″ N | 123°12′02″ W
Westport 4th of July | Westport, WA | July 4, 2022 9:30 p.m. to 11:30 p.m | 46°54′17″ N | 124°05′59″ W
Garibaldi Days Fireworks | Garibaldi, OR | July 23, 2022 9:30 p.m. to 11 p.m | 45°33′13″ N | 123°54′56″ W
All coordinates are listed in reference Datum NAD 1983.

In addition to this notice of enforcement in the Federal Register, the Coast Guard plans to provide notification of these enforcement periods via the Local Notice to Mariners and Broadcast notice to mariners.

Dated: June 3, 2022.
M. Scott Jackson,
Captain, U.S. Coast Guard, Captain of the Port Columbia River.

[FR Doc. 2022-12454 Filed 6-8-22; 8:45 am]

BILLING CODE 9110-04-P